NATIONAL SCIENCE FOUNDATION

Notice of Permit Applications Received Under the Antarctic Conservation Act of 1978 (Pub. L. 95-541)

AGENCY: National Science Foundation.

ACTION: Notice of Permit Applications Received under the Antarctic Conservation Act of 1978, Pub. L. 95-541.

SUMMARY: The National Science Foundation (NSF) is required to publish notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by August 6, 2004. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Public Law 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant

Permit Application No. 2005-008, Mahlon C. Kennicutt, II, Director, Geochemical & Environmental Research Group, Texas A&M University, 833 Graham Road, College Station, TX 77845.

Activity for Which Permit Is Requested

Enter Antarctic Specially Protected Area. The applicant proposes to enter Cape Bird (ASPA # 116) and Arrival Heights (ASPA # 122) to collect soil samples and take permafrost measurements as part of the ongoing environmental monitoring program. These sites were chosen because of the nature of their geology, climatic influences and topography. One site will service as a reference control for the study of the temporal and spatial scales of various types of disturbances in and around McMurdo Station, Antarctica.

Location

Cape Bird (ASPA # 116) and Arrival Heights (ASPA # 122), Ross Island, Antarctica

Dates

November 21, 2004 to December 31, 2004

2. Applicant

Permit Application No. 2005-009, John C. Priscu, Department of Land Resources and Environmental Sciences, 334 Leon Johnson Hall, Montana State University, Bozeman, MT 59717.

Activity for Which Permit Is Requested

Introduce non-indigenous species to Antarctica. The applicant plans to import bacterial isolates, originally collected from the McMurdo Dry Valleys, and insert fluorescent green protein (GFPs) marker genes. The marker genes are expressed in the cytoplasm as a colored fluroscence enabling them to be seen inside phytoflagellates when viewed under epiflourescence microscopy with the appropriate filter sets. The marker genes will express different colors (red, green, yellow, cyano). By using mixtures of these bacteria, it can be determined if phytoflagellates are selectively feeding on different strains of bacteria. If they are selective, then their grazing may impact on the diversity of the bacterial communities of the Dry Valley lakes. Experiments will be conducted in the Crary Lab at McMurdo Station and all waste from experiments will be destroyed for disposal.

Location

McMurdo Dry Valleys and Crary Science and Engineering Center, McMurdo Station, Ross Island

Dates

November 01, 2004 to December 31, 2005

3. Applicant

Permit Application No. 2005-010, W. Berry Lyons, Byrd Polar Research Center, The Ohio State University, 108 Scott Hall, 1090 Carmack Road, Columbus, OH 43210.

Activity for Which Permit Is Requested

Entry into Antarctic Specially Protected Area. The applicant proposes to enter and camp at Cape Hallet (ASPA # 106), to conduct work in collaboration with the Antarctic New Zealand Latitude Gradient Project and as an extension of the McMurdo Dry Valleys Long-Term Ecological Research project. The applicant will perform routine maintenance and download data from the automated weather installed in the area in 2003. In addition, water samples will be collected for chemical analysis, as well as snow samples and soil samples. The team will also assist the New Zealanders in collecting debris for removal from the site.

Location

Cape Hallett, Victoria Land, Antarctica (ASPA # 106)

Dates

October 01, 2004 to February 18, 2005

Nadene G. Kennedy,
Permit Officer, Office of Polar Programs.

[FR Doc. 04-15416 Filed 7-6-04; 8:45 am]

BILLING CODE 7555-01-M